SECURITIES AND EXCHANGE COMMISSION

[File No. 500-1]

Optimized Transportation Management, Inc.; Order of Suspension of Trading

June 5, 2012.

It appears to the Securities and Exchange Commission that there is a lack of current and accurate information concerning the securities of Optimized Transportation Management, Inc. (“Optimized Transportation Management”) because it has not filed a periodic report since it filed its Form 10-Q for the period ending September 30, 2010, filed on November 22, 2010.

The Commission is of the opinion that the public interest and the protection of investors require a suspension of trading in the securities of Optimized Transportation Management. Therefore, it is ordered, pursuant to Section 12(k) of the Securities Exchange Act of 1934, that trading in the securities of Optimized Transportation Management is suspended for the period from 9:30 a.m. EDT on June 5, 2012, through 11:59 p.m. EDT on June 18, 2012.

By the Commission.
Jill M. Peterson,
Assistant Secretary.

[FR Doc. 2012-13933 Filed 6-5-12; 4:15 pm]

BILLING CODE 8011-01-P